DEPARTMENT OF TRANSPORTATION

Federal Aviation Administration

Air Traffic Procedures Advisory Committee

AGENCY: Federal Aviation Administration (FAA), DOT.

ACTION: Notice of public meeting.

SUMMARY: The FAA is issuing this notice to advise the public that a meeting of the Federal Aviation Air Traffic Procedures Advisory Committee (ATPAC) will be held to review present air traffic control procedures and practices for standardization, clarification, and upgrading of terminology and procedures.

DATES: The meeting will be held Tuesday, July 24, 2007 from 9 a.m. to 4:30 p.m.; Wednesday, July 25, 2007, from 9 a.m. to 4:30 p.m.; and Thursday, July 26, 2007, from 9 a.m. to 4:30 p.m.

ADDRESSES: The meeting will be held at the FAA, Bessie Coleman Conference Room, 2nd floor, 800 Independence Avenue, Washington, DC 20591.

FOR FURTHER INFORMATION CONTACT: Ms. Nancy B. Kalinowski, Executive Director, ATPAC, System Operations Airspace and Aeronautical Information Management, Room 400E, 800 Independence Avenue, SW., Washington, DC 20591, telephone (202) 267-9205.

SUPPLEMENTARY INFORMATION: Pursuant to Section 10(a)(2) of the Federal Advisory Committee Act (Pub. L. 92-463; 5 U.S.C. App. 2), notice is hereby given of a meeting of the ATPAC to be held Tuesday, July 24, 2007 from 9 a.m. to 4:30 p.m.; Wednesday, July 25, 2007, from 9 a.m. to 4:30 p.m.; and Thursday, July 26, 2007, from 9 a.m. to 4:30 p.m.

The agenda for this meeting will cover a continuation of the ATPAC's review of present air traffic control procedures and practices for standardization, clarification, and upgrading of terminology and procedures. It will also include:

1. Approval of Minutes;

2. Submission and Discussion of Areas of Concern;

3. Discussion of Potential Safety Items;

4. Report from Executive Director;

5. Items of Interest; and

6. Discussion and agreement of location and dates for subsequent meetings.

Attendance is open to the interested public but limited to space available. With the approval of the Chairperson, members of the public may present an oral statements at the meeting. Persons desiring to attend and persons desiring to present oral statement should notify Ms. Nancy B. Kalinowski no later than July 13, 2007. The next quarterly meeting of the FAA ATPAC is scheduled for October 29-31, 2007, in Washington, DC. Any member of the public may present a written statement to the ATPAC at any time at the address given above.

Issued in Washington, DC, on April 30, 2007.
Nancy B. Kalinowski,
Executive Director, Air Traffic Procedures Advisory Committee.

[FR Doc. E7-8724 Filed 5-7-07; 8:45 am]

BILLING CODE 4910-13-P